DEPARTMENT OF DEFENSE

Office of the Secretary

Defense Intelligence Agency, Science and Technology Advisory Board, Standing Committee on Emerging Chemical and Biological Technology Advisory Committee of Experts Closed Panel Meeting

AGENCY: Department of Defense, Defense Intelligence Agency.

ACTION: Notice.

SUMMARY: Pursuant to the provisions of subsection (d) of section 10 of Public Law 92-463, as amended by section 5 of Public Law 94-409, notice is hereby given that a closed meeting of the DIA Science and Technology Advisory Board, Standing Committee on Emerging Chemical and Biological Technology Advisory Committee of Experts has been scheduled as follows:

DATES: June 13-14, 2001 (9 am to 5 pm).

ADDRESSES: Battelle Memorial Institute, 505 King Avenue, Columbus, Ohio 43201.

FOR FURTHER INFORMATION CONTACT: Mr. Jack A. McNulty, Chairman, Standing Committee on Emerging Chemical and Biological Technology Advisory Committee of Experts, DIA Science and Technology Advisory Board, Washington, DC 20340-1328, (202) 231-3507.

SUPPLEMENTARY INFORMATION: The entire meeting is devoted to the discussion of classified information as defined in section 552b(c)(I), title 5 of the U.S. Code, and therefore will be closed to the public. The Advisory Committee of Experts (ACE) will receive classified briefings on and discuss several cutting-edge technologies and advise the Director, DIA, on related scientific and technical matters.

Dated: June 12, 2001.
L.M. Bynum,
Alternate OSD Federal Register, Liaison Officer, Department of Defense.

[FR Doc. 01-15213 Filed 6-15-01; 8:45 am]

BILLING CODE 5001-08-M